DEPARTMENT OF ENERGY

Federal Energy Regulatory Commission

Notice of Effectiveness of Exempt Wholesale Generator and Foreign Utility Company Status

| Docket Nos.
50LW 8me LLC | EG25-24-000
Bluebird Solar LLC | EG25-25-000
Seven Flags BESS, LLC | EG25-26-000
Tierra Seca BESS, LLC | EG25-27-000
Morgnec Road Solar, LLC | EG25-28-000
Spring Grove Solar II, LLC | EG25-29-000
Cascade Energy Storage II LLC | EG25-30-000
Nimbus Wind Farm, LLC | EG25-31-000
Richland Township Solar II, LLC | EG25-32-000
BCD 2024 Fund 4 II Lessee, LLC | EG25-33-000
Enbridge Solar (Orange Grove), LLC | EG25-34-000
Hecate Energy Frye Solar, LLC | EG25-35-000
EdSan 1C Solar, LLC | EG25-36-000
Camino Solar, LLC | EG25-37-000
Scatter Wash Energy Storage LLC | EG25-38-000
Bluegrass Solar, LLC | EG25-39-000
Burksol LLC | EG25-40-000
Desert Willow Energy Storage, LLC | EG25-41-000
Anole Energy Storage, LLC | EG25-42-000
Wild Plains Wind Project, LLC | EG25-43-000
Northwest Ohio Wind, LLC | EG25-44-000
Bocanova Power LLC | EG25-46-000
GB Arthur Kill Storage LLC | EG25-47-000
Pier S Energy Storage LLC | EG25-48-000
GC Project LP | FC25-1-000
EniPower S.p.A | FC25-2-000

Take notice that during the month of January 2025, the status of the above-captioned entities as Exempt Wholesale Generators or Foreign Utility Companies became effective by operation of the Commission's regulations. 18 CFR 366.7(a) (2024).

Dated: February 5, 2025.
Debbie-Anne A. Reese,
Secretary.

[FR Doc. 2025-02474 Filed 2-10-25; 8:45 am]

BILLING CODE 6717-01-P